DEPARTMENT OF HEALTH AND HUMAN SERVICES

Centers for Disease Control and Prevention

Amendment of February 4, 2004, Order To Embargo Birds and Bird Products Imported From Nigeria

SUMMARY: On February 4, 2004, the Centers for Disease Control and Prevention (CDC) within the U.S. Department of Health and Human Services issued an order to ban immediately the import of all birds (Class: Aves) from specified Southeast Asian countries, subject to limited exemptions for returning pet birds of U.S. origin and certain processed bird-derived products. HHS/CDC took this step because birds from these countries potentially can infect humans with avian influenza (influenza A/[H5N1]). The February 4, 2004, order complemented a similar action taken at the same time by the Animal and Plant Health Inspection Service (APHIS) within the U.S. Department of Agriculture (USDA).

On March 10, 2004, HHS/CDC lifted the embargo of birds and bird products from the Hong Kong Special Administrative Region (HKSAR) because of the documented public-health and animal health measures taken by Hong Kong officials to prevent spread of the outbreak within the HKSAR, and the absence of highly pathogenic avian influenza cases in Hong Kong's domestic and wild bird populations. USDA/APHIS took a similar action.

On September 28, 2004, HHS/CDC extended the embargo on birds and bird products to include Malaysia because of the documented cases of highly pathogenic avian influenza A/H5N1 in poultry in Malaysia. On July 20, 2005, USDA/APHIS adopted as a final rule the interim rule that became effective on February 4, 2004, which amended its regulations to prohibit or restrict the importation of birds, poultry, and unprocessed birds and poultry products from regions that have reported the presence of highly pathogenic avian influenza H5N1 in poultry. (See 70 Federal Register 41608 [July 20, 2005].) As the United Nations Food and Agriculture Organization and the World Organization for Animal Health (OIE) have confirmed additional cases of highly pathogenic avian influenza (H5N1) , USDA/APHIS has added additional countries to its ban. On December 29, 2005, HHS/CDC added the Republic of Kazakhstan, Romania, the Russian Federation, the Republic of Turkey, and Ukraine to its current embargo because of documented cases of highly pathogenic avian influenza A/H5N1 in poultry in those countries.

Currently, HHS/CDC and USDA/APHIS bans cover birds and bird products from Cambodia, Indonesia, Japan, Kazakhstan, Laos, Malaysia, the People's Republic of China, Romania, Russia, South Korea, Thailand, Turkey, Ukraine, and Vietnam.

On February 7, 2006, the OIE confirmed the presence of highly pathogenic avian influenza H5N1 in poultry in Nigeria. At this time, HHS/CDC is adding Nigeria to its current embargo. This action is effective on February 8, 2006, and will remain in effect until further notice.

SUPPLEMENTARY INFORMATION:

Background

On February 7, 2006, an OIE reference laboratory in Padua, Italy, confirmed an outbreak of highly pathogenic avian influenza H5N1 in Nigeria. The outbreak occurred in a commercial poultry farm in Jaji in Kaduna State, and suspect cases in poultry were reported as early as January 10, 2006.

Introduction of birds infected with highly pathogenic avian influenza H5N1 into the United States could lead to outbreaks of disease among birds and among the human population, a significant public health threat. Banning the importation of all avian species from affected countries is an effective means of limiting this threat. HHS/CDC is therefore taking this action to reduce the chance of introduction or spread of influenza A/(H5N1) into the United States.

Immediate Action

Therefore, pursuant to 42 CFR 71.32(b), the February 4, 2004, HHS/CDC is amending the order to add Nigeria to the list of countries subject to the order's embargo of birds and products derived from birds. All other portions of the February 4, 2004, order, as further amended on March 10, 2004, September 28, 2004, and December 29, 2005, shall remain in effect until further notice.

Dated: March 6, 2006.
Julie Louise Gerberding,
Director, Centers for Disease Control and Prevention, U.S. Department of Health and Human Services.

[FR Doc. E6-3431 Filed 3-9-06; 8:45 am]

BILLING CODE 4163-18-P